DEPARTMENT OF THE INTERIOR

Bureau of Land Management

[LLWY920000 L14300000; WYW171298]

Notice of Realty Action: Recreation and Public Purposes Act Classification of Public Lands in Uinta County, WY

AGENCY: Bureau of Land Management, Interior.

ACTION: Notice of realty action.

SUMMARY: The Bureau of Land Management (BLM) has examined and found suitable for classification for conveyance under the provisions of the Recreation and Public Purposes (R&PP) Act, as amended, approximately 8.86 acres of public land in Uinta County, Wyoming. The Wyoming Department of Transportation (WYDOT) proposes to use the land for a Highway Patrol shooting range.

DATES: Interested parties may submit comments regarding the proposed conveyance or classification of the lands until August 25, 2011.

ADDRESSES: Send written comments to the Field Manager, Kemmerer Field Office, 312 Highway 189 North, Kemmerer, Wyoming 83101; or e-mail to john_christensen@blm.gov.

FOR FURTHER INFORMATION CONTACT: Kelly Lamborn, Realty Specialist, BLM, Kemmerer Field Office, 312 Highway 189 North, Kemmerer, Wyoming 83101; (307) 828-4505; or kelly_lamborn@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In accordance with Section 7 of the Taylor Grazing Act (43 U.S.C. 315f), and Executive Order No. 6910, the following described public land in Uinta County, Wyoming, has been examined and found suitable for classification for conveyance under the provisions of the R&PP Act, as amended (43 U.S.C. 869 et seq.):

Sixth Principal Meridian

T. 16 N., R. 118 W.,

Sec. 34, lot 2.

The area described contains 8.86 acres, more or less, in Uinta County.

In accordance with the R&PP Act, WYDOT filed an application to purchase the above-described 8.86 acres of public land to be developed as a Highway Patrol shooting range. Additional detailed information pertaining to this application, plan of development, and site plan is in case file WYW-171298, located in the BLM Kemmerer Field Office at the above address. The land would be conveyed without retention of a reversionary interest as allowed by 43 U.S.C. 869-2 and 43 CFR subpart 2743.

The land is not needed for any Federal purpose. The conveyance is consistent with the BLM Kemmerer Resource Management Plan dated May 2010, and would be in the public interest. The patent, when issued, will be subject to the provisions of the R&PP Act and applicable regulations of the Secretary of the Interior, and will contain the following reservations to the United States:

1. A right-of-way thereon for ditches or canals constructed by the authority of the United States, Act of August 30, 1890 (43 U.S.C. 945); and

2. All minerals, together with the right to prospect for, mine, and remove such deposits from the same under applicable law and such regulations as the Secretary of the Interior may prescribe.

The patent will be subject to all valid existing rights documented on the official public land records at the time of patent issuance.

On July 11, 2011, the land described above will be segregated from all other forms of appropriation under the public land laws, including the general mining laws, except for conveyance under the R&PP Act, leasing under the mineral leasing laws, and disposals under the mineral material laws.

Interested parties may submit comments involving the suitability of the land for a Highway Patrol shooting range. Classification comments are restricted to whether the land is physically suited for the proposal, whether the use will maximize the future use or uses of the land, whether the use is consistent with local planning and zoning, or if the use is consistent with State and Federal programs.

Interested parties may submit comments regarding the conveyance and specific uses proposed in the application and plan of development, whether the BLM followed proper administrative procedures in reaching the decision to convey under the R&PP Act, or any other factor not directly related to the suitability of the land for R&PP use.

Interested parties may submit written comments to the BLM Kemmerer Field Manager at the address above. Comments, including names and street addresses of respondents, will be available for public review at the BLM Kemmerer Field Office during regular business hours. Before including your address, phone number, e-mail address, or other personal identifying information in your comment, you should be aware that your entire comment—including your personal identifying information—may be made publicly available at any time. While you may ask us in your comment to withhold your personal identifying information from public review, we cannot guarantee that we will be able to do so.

Any adverse comments will be reviewed by the BLM State Director, who may sustain, vacate or modify this realty action. In the absence of any adverse comments, the classification of the land described in this notice will become effective on September 9, 2011. The land will not be available for conveyance until after the classification becomes effective.

Authority: 43 CFR 2741.5(h).

Donald A. Simpson,
State Director.

[FR Doc. 2011-17296 Filed 7-8-11; 8:45 am]

BILLING CODE 4310-22-P